DEPARTMENT OF AGRICULTURE

Forest Service

Notice of Lincoln County Resource Advisory Committee Meeting

AGENCY: Forest Service, USDA.

ACTION: Notice of meeting.

SUMMARY: Pursuant to the authorities in the Federal Advisory Committee Act (Pub. L. 92-463) and under the Secure Rural Schools and Community Self-Determination Act of 2000 (Pub. L. 106-393) the Kootenai National Forests' Lincoln County Resource Advisory Committee will meet on July 1, August 5, September 9, and October 7, 2002 at 6:30 p.m. in Libby, Montana for business meetings. The meetings are open to the public.

DATES: July 1, August 5, September 9, and October 7, 2002.

ADDRESSES: The meetings will be held at the Kootenai National Forest Supervisor's Office, located at 1101 U.S. Highway 2 West, Libby, MT.

FOR FURTHER INFORMATION CONTACT: Barbara Edgmon, Committee Coordinator, Kootenai National Forest at (406) 293-6211, or email bedgmon@fs.fed.us.

SUPPLEMENTARY INFORMATION: Agenda topics include reviewing project proposals and receiving public comment. If the meeting location is changed, notice will be posted in the local newspapers, including the Daily Interlake based in Kalispell, MT.

Dated: June 13, 2002.
Cami Winslow,
Acting Forest Supervisor.

[FR Doc. 02-15495 Filed 6-19-02; 8:45 am]

BILLING CODE 3410-11-M